DEPARTMENT OF TRANSPORTATION

Federal Motor Carrier Safety Administration

[Docket No. FMCSA-2007-28850]

Agency Information Collection Activities; Revision of an Approved Information Collection: Driver Qualification Files

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. This collection, entitled “Driver Qualification Files,” accounts for the information that motor carriers must obtain and maintain on the qualifications of the commercial motor vehicle (CMV) drivers they employ. On May 23, 2007, FMCSA published a Federal Register notice allowing for a 60-day comment period on the ICR. No comments were received.

DATES: Please send your comments by October 11, 2007. OMB must receive your comments by this date in order to act quickly on the ICR.

ADDRESSES: All comments should reference Docket No. FMCSA-2007-28850. You may submit comments to the Office of Information and Regulatory Affairs, Office of Management and Budget, 725 Seventeenth Street, NW., Washington, DC 20503, Attention: DOT/FMCSA Desk Officer.

FOR FURTHER INFORMATION CONTACT: Mr. Thomas Yager, Chief, FMCSA Driver and Carrier Operations Division. Telephone: 202-366-4235; e-mail MCPSD@dot.gov.

SUPPLEMENTARY INFORMATION: Title: Driver Qualification Files.

OMB Control Number: 2126-0004.

Type of Request: Revision of a currently approved collection.

Respondents: Motor carriers; drivers.

Estimated Number of Respondents: 7 million.

Estimated Time per Response: An average of 28 minutes.

Expiration Date: September 30, 2007.

Frequency of Response: The principal obligations of these rules are imposed on motor carriers when considering a driver for employment, and on CMV drivers, when applying for employment. These obligations arise irregularly because they are associated with the hiring process. This collection also imposes certain annual obligations on motor carriers and employee-drivers.

Estimated Total Annual Burden: 3,254,580 hours. FMCSA arrives at this estimate through calculation of the time involved with each of the requirements of the driver qualification rules including those pertaining to the hiring of a CMV driver by a motor carrier and the safety performance history of the applicant-driver.

Background

The Motor Carrier Safety Act of 1984 (Pub. L. 98-554, Title II, 98 Stat. 2834 (October 30, 1984)) requires the Secretary of Transportation to issue regulations pertaining to CMV safety. These regulations, also issued under the authority provided by 49 U.S.C. 504, 31133, 31136, and 31502, require motor carriers to maintain a driver qualification file on each of their CMV drivers. The rules require a motor carrier to obtain and maintain specified information concerning the qualifications of each driver to operate a CMV in interstate commerce. The CMV driver is often required to produce the required information. The majority of the information is collected during the process of hiring the CMV driver and during annual reviews. This information is available to FMCSA investigators to substantiate the qualifications of drivers to operate a CMV safely in interstate commerce. A qualified driver means fewer crashes.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information.

Issued on: August 31, 2007.
Michael S. Griffith,
Acting Associate Administrator for Research and Information Technology.

[FR Doc. E7-17805 Filed 9-10-07; 8:45 am]

BILLING CODE 4910-EX-P